DEPARTMENT OF COMMERCE

International Trade Administration

United States-Egypt Business Council: Membership

AGENCY: International Trade Administration, Commerce Department.

ACTION: Notice.

SUMMARY: The International Trade Administration of the U.S. Department of Commerce has reestablished and will monitor the activities of the U.S.-Egypt Business Council. This notice announces membership opportunities for American business representatives on the U.S. Section of the Council.

DATES: In order to receive full consideration, requests must be received no later than: Friday, November 18, 2005.

ADDRESSES: Please send your requests for consideration to Ms. Maram Talaat, Egypt Desk Officer, Office of the Middle East, U.S. Department of Commerce either by fax on 202-482-0878 or by mail to Room H-2029B, U.S. Department of Commerce, 14th and Constitution Avenue, NW., Washington, DC 20230.

FOR FURTHER INFORMATION, CONTACT: Ms. Maram R. Talaat, Office of the Middle East, Room H-2029B, Department of Commerce, Washington, DC 20230, Phone 202-482-3752.

SUPPLEMENTARY INFORMATION: The Department of Commerce established the U.S.-Egypt Presidents' Council in April 1995 as part of the U.S.-Egypt Partnership for Economic Growth and Development. Following their April 2001 meeting at the White House, President Bush and Egyptian President Mubarak agreed to continue the Presidents' Council, and in October 2001 the two governments agreed to rename the Council as the U.S.-Egypt Business Council. The purpose of the Council is to provide a forum through which American and Egyptian private sector representatives can offer advice and counsel to their respective governments that reflect their views, needs and concerns regarding private sector business development in Egypt and enhanced bilateral commercial ties. The Council exchanges information and encourages bilateral discussions that address the following areas:

—Factors that affect the growth of private sector business in both countries, including disincentives to trade and investment, and regulatory obstacles to optimal job creation and economic growth;

—Initiatives that both governments might take to promote joint private sector business growth in Egypt;

—Identification and promotion of business opportunities in both countries;

—Attracting U.S. businesses to opportunities in Egypt and serving as a catalyst for Egyptian private sector growth.

The U.S. Section of the Council, chaired by the Secretary of Commerce, consists of up to fifteen members, all drawn from the private sector. They represent the diversity of American business with emphasis on: agribusiness and food processing, tourism, banking and insurance, energy, pharmaceuticals, services (such as accounting, management, engineering/construction), information technology, electronics and other high technology industries, and manufacturing industries. Private sector members will serve in a representative capacity presenting the views and interests of their particular industry and as senior business representatives whose expertise on international business issues can be shared. Private sector members are not special government employees, and will receive no compensation for their participation in Council activities. Members participating in Council meetings and events will be responsible for their travel, lodging, and other personal expenses. Only appointed members may attend official Council meetings. Council members serve for three-year terms at the discretion of the Department of Commerce.

In order to be eligible for membership in the U.S. section, potential candidates should be:

—A U.S. citizen residing in the United States, or able to travel to the United States to attend official Council meetings;

—The President or CEO (or comparable level of responsibility) of a private sector company (or, in the case of very large private sector companies, the head of a sizeable operating unit), or head of a non-profit organization such as a trade or industry association that has a unique technical expertise and outstanding reputation; and

—Not a registered foreign agent under the Foreign Agents Registration Act of 1938, as amended.

In reviewing eligible candidates, the Department of Commerce will consider such selection factors as:

—Experience and interest in the Egyptian market;

—Industry or service sector represented;

—Export/investment experience;

—Contribution to diversity based on industry sector, company size, location, and demographics; and

—Readiness to initiate and be responsible for activities in which the Business Council will be active.

Members will be selected on the basis of who will best carry out the objectives of the Council as stated in the Terms of Reference establishing the U.S.-Egypt Business Council.

To be considered for membership, please provide the following: name or names and title(s) of the individual(s) requesting consideration; name and address of the company or organization sponsoring each individual; company's product, service or technical expertise; size of the company or organization; export trade, investment, or international program experience and major markets; and a brief statement of why the candidate(s) should be considered for membership on the Council.

Dated: October 4, 2005.
Cherie Loustaunau,
Director, Office of the Middle East.

[FR Doc. E5-5577 Filed 10-11-05; 8:45 am]

BILLING CODE 3510-DA-P